DEPARTMENT OF COMMERCE

National Oceanic and Atmospheric Administration

RIN 0648-XG112

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a five-day meeting to consider actions affecting the Gulf of Mexico fisheries in the exclusive economic zone (EEZ).

DATES: The meeting will be held on Monday, April 16 through Friday, April 20, 2018.

ADDRESSES: The meeting will take place at the Marriott Courtyard hotel, located at 1600 E. Beach Boulevard, Gulfport, MS 39501; telephone: (228) 864-4310.

Council address: Gulf of Mexico Fishery Management Council, 2203 N. Lois Avenue, Suite 1100, Tampa, FL 33607; telephone: (813) 348-1630.

FOR FURTHER INFORMATION CONTACT: Douglas Gregory, Executive Director, Gulf of Mexico Fishery Management Council; telephone: (813) 348-1630.

SUPPLEMENTARY INFORMATION:

Agenda

Monday, April 16, 2018; 8 a.m.-5:30 p.m.; Closed Session

The meeting will begin in a Closed Session of the Full Council all day to hold applicant interviews, select the 2017 Law Enforcement Officer of the Year, and to select members to the Shrimp and Reef Fish Advisory Panels.

Tuesday, April 17, 2018; 8:30 a.m.-5:45 p.m.

The Coral Committee will meet briefly to review a public hearing draft for Coral Amendment 9. The Shrimp Committee will review updated stock assessments, biological review of the Texas closure, and receive a summary from the Shrimp Advisory Panel Meeting. The Mackerel Committee will review and discuss the South Atlantic Council's Amendment 31: Atlantic Cobia Management. The Administrative/Budget Committee will review the grant expenditures, and anticipated budget activities and funding. The Sustainable Fisheries Committee will review a revised policy statement on the use of descending tools and venting devices and a 5-year review on inclusion/exclusion of species and species groupings in fishery management plans; and hold a discussion on historical captain permits. After lunch, the Reef Fish Management Committee will review the Reef Fish Landings; receive an update on state management of recreational Red Snapper Exempted Fishing Permits (EFPs); review a public hearing draft for Joint Reef Fish Amendment 48 and Red Drum Amendment 4—Status Determination Criteria and Optimum Yield; and discuss the State Management Program for Recreational Red Snapper.

Wednesday, April 18, 2018; 8 a.m.-5:30 p.m.

The Reef Fish Management Committee will reconvene and receive a presentation on recreational data challenges and potential South Atlantic Council responses; discuss the Commercial Individual Fishing Quotas (IFQ) Programs; and, review an options paper on framework action Greater Amberjack Recreational Bag Limits, Seasonal Quotas and Commercial Trip Limits. After lunch, the Committee will review the decision tools and amendments for Amendment 42—Reef Fish Management for Headboat Survey and Amendment 41—Allocation-based Management for Federally Permitted Charters Vessels; and, receive a summary from the Scientific and Statistical Committee (SSC) meeting.

Thursday, April 19, 2018; 8:30 a.m.-4:45 p.m.

The Full Council will reconvene with a Call to Order, Announcements, and Introductions; Adoption of Agenda and Approval of Minutes. The Council will receive a presentation from Mississippi Law Enforcement; a summary from the Law Enforcement Technical Committee meeting; a regulatory review; and, a presentation on Highly Migratory Species on Shortfin Mako. The Council will review Exempted Fishing Permit (EFPs) Applications and public comments on EFP applications, if any. After lunch, the Council will receive open public testimony from 12:30 p.m. until 3:30 p.m. on Fishery Issues or Concerns. Anyone wishing to speak during public comment should sign in at the registration station located at the entrance to the meeting room.

After public testimony, the Full Council will receive committee reports from the Coral, Shrimp, Mackerel and Administrative/Budget Management Committees.

Friday, April 20, 2018; 8 a.m.-12:30 p.m.

The Full Council will receive committee reports from Reef Fish and Sustainable Fisheries Management Committees; Announce the 2017 Law Enforcement Officer of the Year; vote on any Exempted Fishing Permit (EFP) applications; and receive updates from the following supporting agencies: South Atlantic Fishery Management Council; Gulf States Marine Fisheries Commission; U.S. Coast Guard; U.S. Fish and Wildlife Service; and, the Department of State.

Lastly, the Council will discuss any Other Business items.

—Meeting Adjourns

The timing and order in which agenda items are addressed may change as required to effectively address the issue. The latest version will be posted on the Council's file server, which can be accessed by going to the Council's website at http://www.gulfcouncil.org and clicking on FTP Server under Quick Links. For meeting materials, go to the Gulf Council website or Gulf Council file server and select the “Briefing Books/Briefing Book 2018-04” folder. The username and password are both “gulfguest”. The meetings will be webcast over the internet. A link to the webcast will be available on our website.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: March 26, 2018.
Tracey L. Thompson,
Acting Deputy Director, Office of Sustainable Fisheries, National Marine Fisheries Service.

[FR Doc. 2018-06326 Filed 3-28-18; 8:45 am]

BILLING CODE 3510-22-P